FEDERAL COMMUNICATIONS COMMISSION

Information Collection Being Submitted for Review and Approval to the Office of Management and Budget

AGENCY: Federal Communications Commission.

ACTION: Notice and request for comment; correction.

SUMMARY: The Federal Communications Commission (FCC) is correcting a notice and request for comment that appeared in the Federal Register of August 15, 2014. The document seeks comment on the information collection requirements contained in the Commission's Video Relay Service Reform Order.

DATES: This document corrects the notice and request for comment that appeared in the Federal Register of August 15, 2014. Written comments should be submitted on or before September 15, 2014. If you anticipate that you will be submitting comments, but find it difficult to do so within the period of time allowed by this notice, you should advise the contact below as soon as possible.

FOR FURTHER INFORMATION CONTACT: For additional information, please contact Cathy Williams, at (202) 418-2918 or email Cathy.Williams@fcc.gov or PRA@fcc.gov.

SUPPLEMENTARY INFORMATION: This document makes the following corrections to the notice and request for comment, FR Doc. 2014-19290, published August 15, 2014, at 79 FR 48149:

Correction

On page 48150, columns 2 and 3, revise the Privacy Impact Assessment section to read as follows:

Privacy Impact Assessment: This information collection affects individuals or households. The Commission is not collecting personally identifiable information (PII) for the purpose of populating in the database, however, the database is made available and accessible by the Commission and the TRS Fund Administrator. Although TRS users are required to provide their personal identifiable information to register for using TRS service, such information is available only to the Commission, the TRS Fund Administrator, and a third-party independent vendor selected by the Commission's Managing Director and the Commission. The third party vendor and the Commission are required to maintain all registered information, including personal information, in the registration database confidential in accordance to the directives under contract between the third party vendor and the Commission's Managing Director. The FCC is completing the requirements for a new system of records notice (SORN), FCC/CGB-4, “Internet-based Telecommunications Relay Service-User Registration Database (ITRS-URD),” which will cover the personally identifiable information (PII) that may be collected, maintained, used, and stored, and disposed of when obsolete, and which are part of the information associated with these information collection requirements, i.e., the new SORN will make this information collection comply with all requirements of the Privacy Act of 1974, as amended.

Federal Communications Commission.
Gloria J. Miles,
Federal Register Liaison, Office of the Secretary, Office of the Managing Director.

[FR Doc. 2014-19886 Filed 8-21-14; 8:45 am]

BILLING CODE 6712-01-P